DEPARTMENT OF TRANSPORTATION

Federal Highway Administration

Notice of Final Federal Agency Actions on the Newberg Dundee Bypass Project Project: Yamhill and Washington County, OR

AGENCY: Federal Highway Administration (FHWA), DOT.

ACTION: Notice of Limitations on Claims for Judicial Review of Actions by FHWA.

SUMMARY: This notice announces actions taken by the FHWA, NMFS, and other Federal agencies that are final within the meaning of 23 U.S.C. 139(l)(1). The actions relate to a proposed highway project, Newberg Dundee Bypass Project, in Yamhill and Washington Counties, Oregon. This action grants approval for the project.

DATES: By this notice, the FHWA is advising the public of final agency actions subject to 23 U.S.C. 139(l)(1). A claim seeking judicial review of the Federal agency actions on the highway project will be barred unless the claim is filed on or before December 10, 2012. If the Federal law that authorizes judicial review of a claim provides a time period of less than 180 days for filing such claim, then that shorter time period still applies.

FOR FURTHER INFORMATION CONTACT: Michelle Eraut, Program Development Team Leader, Federal Highway Administration, 530 Center Street NE., Suite 420, Salem, Oregon 97301, Telephone: (503) 316-2559. The Newberg Dundee Bypass Project Final Environmental Impact Statement, Record of Decision (ROD) and other project records are available upon written request from the Federal Highway Administration at the address shown above. Comments or questions concerning this proposed action and the Newberg Dundee Bypass Project should be directed to the FHWA at the address provided above.

SUPPLEMENTARY INFORMATION: Notice is hereby given that the FHWA has taken final agency action subject to 23 U.S.C. 139 (l)(1) by issuing approval for the following highway project in the State of Oregon: Newberg Dundee Bypass Project. The project will build an 11-mile, four-travel lane, access-controlled expressway (Bypass) with four interchanges and related local circulation changes to reduce congestion on Oregon 99W through Newberg and Dundee in Yamhill and Washington Counties, Oregon. The project area is located along the south sides of Newberg and Dundee, from the Oregon 99W/Oregon 18 junction near Dayton (approximately Oregon 18 milepost 51.6) to past Rex Hill, east of Newberg (approximately Oregon 99W milepost 19.6). The project followed a tiered NEPA process. On August 26, 2005, FHWA issued a ROD on the Tier 1 FEIS that approved the Bypass Corridor (Corridor), the number and location of interchanges, and a general Bypass configuration. The Tier 2 DEIS, published in June 5, 2010, evaluated a No Build Alternative and Build Alternative based on the approved Corridor, including several design and local circulation options. A Preferred Alternative was identified, considering the Tier 2 DEIS analysis and public and agency comments received on the Tier 2 DEIS. The actions by the Federal agencies and the laws under which such actions were taken are described in the Final Environmental Impact Statement published on April 27, 2012, in the ROD approved on June 5, 2012, and in other documents in the FHWA project records. This notice applies to all Federal agency decisions as of the issuance date of this notice and all laws under which such actions were taken, including but not limited to:

1. General: National Environmental Policy Act (NEPA) [42 U.S.C 4321-4347]; Federal-Aid Highway Act [23 U.S.C. 109 and 23 U.S.C. 128]; Section 6002 of the Safe, Accountable, Flexible, Efficient Transportation Equity Act: A Legacy for Users [SAFETEA-LU—23 U.S.C. 139].

2. Air: Clean Air Act [42 U.S.C. 7401-7671(q)].

3. Land: Section 4(f) of the Department of Transportation Act of 1966 [23 U.S.C. 138 and 49 U.S.C. 303]; Land and Water Conservation Fund (LWCF) [16 U.S.C. 4601-4604]; Landscaping and Scenic Enhancement (Wildflowers) [23 U.S.C. 319].

4. Wildlife: Endangered Species Act [16 U.S.C. 1531, et seq.]; Magnuson-Stevens Fishery Conservation and Management Act [16 U.S.C. 1801, et seq.]; Fish and Wildlife Coordination Act [16 U.S.C. 661-667 (d)]; Migratory Bird Treaty Act [16 U.S.C. 703-712]; Bald and Golden Eagle Protection Act [16 U.S.C. 668-668(c)].

5. Historic and Cultural Resources: Section 106 of the National Historic Preservation Act of 1966, as amended [16 U.S.C. 470(f)]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Title VI of the Civil Rights Act of 1964 [42 U.S.C. 2000(d) et seq.]; American Indian Religious Freedom Act [42 U.S.C. 1996]; Farmland Protection Policy Act (FPPA) [7 U.S.C. 4201-4209].

7. Hazardous Materials and Waste: Comprehensive Environmental Response, Compensation, and Liability Act (CERCLA), 42 U.S.C. 9601-9675; Resource Conservation and Recovery Act (RCRA), 42 U.S.C. 6901-6992(k).

8. Wetlands and Water Resources: Clean Water Act [33 U.S.C. 1251-1377]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation [23 U.S.C. 103(b)(6)(M) and 133 (b)(11)]; Flood Disaster Protection Act [42 U.S.C. 4001-4128].

9. Executive Orders: E.O. 11990 Protection of Wetlands; E.O. 11988 Floodplain Management; E.O. 12898 Federal Actions To Address Environmental Justice in Minority Populations and Low Income Populations; E.O. 11593 Protection and Enhancement of Cultural Resources; E.O. 13007 Indian Sacred Sites; E.O. 13175 Consultation and Coordination with Indian Tribal Governments; E.O. 11514 Protection and Enhancement of Environmental Quality; E.O. 13112 Invasive Species. (Catalog of Federal Domestic Assistance Program Number 20.205, Highway Planning and Construction. The regulations implementing Executive Order 12372 regarding intergovernmental consultation on Federal programs and activities apply to this program.)

Authority: 23 U.S.C. 139(l)(1)

Issued On: June 5, 2012.
Michelle Eraut,
Program Development Team Leader Salem, Oregon.

[FR Doc. 2012-14045 Filed 6-8-12; 8:45 am]

BILLING CODE 4910-22-P